DEPARTMENT OF TRANSPORTATION

Office of the Secretary

14 CFR Parts 255 and 399

[Dockets Nos. OST-97-2881, OST-97-3014, OST-98-4775, and OST-99-5888]

RIN 2105-AC65

Computer Reservations System (CRS) Regulations (Part 255); Statements of General Policy (Part 399)

AGENCY: Office of the Secretary, Department of Transportation.

ACTION: Proposed rule; notice extending comment period.

SUMMARY: The Department has issued a notice of proposed rulemaking that proposes to readopt and amend its existing rules governing airline computer reservations systems (CRSs) and to clarify the requirements of its Statements of General Policy on travel agency disclosure of any agency service fees. The Department is now extending the due date for reply comments on this notice of proposed rulemaking to June 9, 2003, from the current date of May 15, 2003.

ADDRESSES: To make sure your comments and related material are not entered more than once in the docket, please submit them (marked with docket number OST-97-2881) by only one of the following means:

(1) By mail to the Docket Management Facility, U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is (202) 366-9329.

(3) Electronically through the Web Site for the Docket Management System at http://dms.dot.gov. Comments must be filed in Dockets OST-97-2881, OST-97-3014, and OST-98-4775, U.S. Department of Transportation, 400 7th St. SW., Washington, DC 20590. Late filed comments will be considered to the extent possible.

Due to security procedures in effect since October 2001 on mail deliveries, mail received through the Postal Service may be subject to delays. Commenters should consider using an express mail firm to ensure the timely filing of any comments not submitted electronically or by hand.

FOR FURTHER INFORMATION CONTACT: Thomas Ray, Office of the General Counsel, 400 Seventh St. SW., Washington, DC 20590, (202) 366-4731.

SUPPLEMENTARY INFORMATION: The Department has begun a rulemaking to reexamine whether it should maintain its existing rules governing CRS operations. We issued a notice of proposed rulemaking that set forth our tentative conclusions on whether the rules should be readopted, whether we should extend the rules to cover the sale of airline tickets through the Internet, and whether we should clarify our full-fare advertising policy insofar as it concerns the disclosure of travel agency service fees. (67 FR 69366, November 15, 2002). We have stated that we intend to hold a public hearing in this rulemaking between the March 17 due date for comments and the due date for reply comments, currently May 15. (68 FR 12883, March 18, 2003).

Several firms and organizations have filed comments in response to our stated intent to hold a public hearing. They have made various suggestions on how the hearing should be structured and when it should be scheduled, including proposals to hold the hearing after the filing of reply comments and requests that we take into account the commenters' need for adequate time to prepare both reply comments and a hearing presentation. We continue to believe that we will obtain a more useful record if we hold the hearing before the submission of reply comments. We are currently planning to schedule the hearing, which will last one day, on Tuesday, Wednesday, or Thursday, May 20, 21, or 22, in the Washington, DC, area, and are in the process of arranging for a room for the hearing. We will provide notice as soon as possible on the time and place of the hearing.

To enable the commenters to respond in their reply comments to arguments made at the hearing, we are extending the due date for reply comments to June 9. This extension will also give commenters a better opportunity to prepare for a hearing and write thorough reply comments without significantly delaying our completion of this proceeding.

Issued in Washington, DC on May 6, 2003.
Kirk K. Van Tine,
General Counsel.

[FR Doc. 03-11634 Filed 5-6-03; 2:53 pm]

BILLING CODE 4910-62-P